DEPARTMENT OF JUSTICE

Notice of Lodging of Partial Consent Decree Pursuant to the Comprehensive Environmental Response Compensation and Liability Act (CERCLA)

Pursuant to section 122(d) of CERCLA, 24 U.S.C. 9622(d), and 28 CFR 50.7 notice is hereby given that on June 24, 2005, a proposed partial Consent Decree (the Decree) in United States v. Beckman Coulter, Inc., et al., Civ. No. 98-CV-4812 (WHW) (consolidated), was lodged with the United States District Court for the District of New Jersey (Newark Vicinage).

In this consolidated action the United States, on behalf of the United States Environmental Protection Agency (EPA), and the New Jersey Department of Environmental Protection (NJDEP) seek cost recovery with respect to the Combe Fill South Landfill Superfund Site (the Site), located in Chester and Washington Townships, New Jersey, pursuant to CERCLA and other authorities against former operators of the Site, as well as generators and transporters of hazardous substances to the Site. The proposed Decree settles claims brought against four parties, Carbco, Inc., f/k/a J. Filiberto Sanitation, Inc., Chester Hills, Inc., John Filiberto, and Joseph Filiberto (the Settling Parties), by the United States and New Jersey. Under the terms of the proposed settlement, within thirty days of entry, the Settling Parties will pay $12.5 million, plus interest, to reimburse the United States and State of New Jersey for a portion of their costs incurred at the Site. After the time period for an appeal of the entry of the Consent Decree has passed, or any potential appeal has been resolved, the Settling Parties will also pay any monies remaining in their litigation escrow account to the United States and State of New Jersey. This settlement is based upon the Settling Parties' limited ability to pay, and the amounts being paid under the Consent Decree are entirely funded from settlements the Settling Parties have entered into with their insurance carriers, with no part of the Settling Parties' settlement with their insurance carriers inuring to their personal benefit.

The Department of Justice will receive, for a period of thirty (30) days from the date of this publication, written comments relating to the proposed Decree. Comments should be addressed to the Assistant Attorney General, Environment and Natural Resources Division, PO Box 7611, United States Department of Justice, Washington, DC 20044-7611, and should refer to United States v. Beckman Coulter, Inc., et al., DOJ Ref. No. 90-11-12-1134/1.

The proposed Consent Decree may be examined at the Office of the United States Attorney for the District of New Jersey, Office of the United States Attorney, Peter Rodini Federal Building, 970 Broad Street, Suite 700, Newark, NJ 07102, and at the United States Environmental Protection Agency, Region 2, 290 Broadway, New York, NY 10007-1866. During the public comment period, the Consent Decree may also be examined on the following Department of Justice Web site: http://www.usdoj.gov/enrd/open.html. A copy of the Consent Decree may also be obtained by mail from the Consent Decree Library, Post Office Box 7611, Washington, D.C. 20044-7611, or by faxing or e-mailing a request to Tonia Fleetwood at tonia.fleetwood@usdoj.gov or fax No. (202) 514-0097, phone confirmation number (202) 514-1547. In requesting a copy of the Decree from the Consent Decree Library, please enclose a check in the amount of $8.75 (25 cents per page reproduction costs) payable to the United States Treasury.

Ronald G. Gluck,
Assistant Section Chief, Environmental Enforcement Section, Environment and Natural Resources Division.

[FR Doc. 05-13835 Filed 7-13-05; 8:45 am]

BILLING CODE 441-15-M